ENVIRONMENTAL PROTECTION AGENCY

[FRL-7053-6]

Agency Information Collection Activities: Submission for OMB Review; Comment Request; Great Lakes Water Quality Guidance Reporting Requirements

AGENCY: Environmental Protection Agency (EPA)

ACTION: Notice.

SUMMARY: In compliance with the Paperwork Reduction Act (44 U.S.C. 3501 et seq.), this notice announces that the following Information Collection Request (ICR) has been forwarded to the Office of Management and Budget (OMB) for review and approval: Great Lakes Water Quality Guidance Reporting Requirements (EPA ICR Number 1639.04; OMB Control Number 2040-0180; expiration date September 30, 2001). The ICR describes the nature of the information collection and its expected burden and cost; where appropriate, it includes the actual data collection instrument.

DATES: Comments must be submitted on or before October 11, 2001.

ADDRESSES: Send comments, referencing EPA ICR No. 1639.04 and OMB Control Number 2040-0180, to the following addresses: Susan Auby, U.S. Environmental Protection Agency, Collection Strategies Division (mail code 2822), 1200 Pennsylvania Avenue, N.W., Washington, DC 20460-0001; and to Office of Information and Regulatory Affairs, Office of Management and Budget (OMB), Attention: Desk Officer for EPA, 725 17th Street, N.W., Washington, DC 20503.

FOR FURTHER INFORMATION CONTACT: Contact Susan Auby at EPA by phone at (202) 260-4901, by e-mail at auby.susan@epamail.epa.gov, or download off the Internet at http://www.epa.gov/icr and refer to EPA ICR No. 1639.04. For technical questions about the ICR contact Mark Morris, Office of Water, 202-260-0312.

SUPPLEMENTARY INFORMATION:

Title: Great Lakes Water Quality Guidance Reporting Requirements (OMB Control No. 2040-0180; EPA ICR No.1639.04) expiring September 30, 2001. This is a request for extension of a currently approved collection.

Abstract: The Clean Water Act (CWA) section 402 establishes the National Pollutant Discharge Elimination System (NPDES) permit program to regulate the discharge of any pollutant or combination of pollutants from point sources into the waters of the United States. CWA section 402(a), as amended, authorizes the EPA Administrator to issue permits for the discharge of pollutants if those discharges meet all applicable requirements of CWA sections 301, 302, 306, 307, 308, and 403 and any conditions the Administrator determines are necessary to carry out the provisions and objectives of the CWA.

Section 101 of the Great Lakes Critical Programs Act (CPA) amends section 118 of the CWA and directs EPA to publish water quality guidance for the Great Lakes System. Provisions of the Guidance are codified in 40 CFR part 132. The Guidance establishes minimum water quality criteria, implementation procedures, and antidegradation provisions for the Great Lakes System. This ICR calculates the burden and costs associated with the implementation of the Great Lakes Water Quality Guidance (hereafter referred to as the Guidance).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on April 24, 2001, (66 FR 20654-20655); one comment was received.

Burden Statement

The annual public reporting and recordkeeping burden for this collection of information is estimated to average about 35 hours per response (in actuality, the burden will vary among dischargers and states and, depending on effluent quality, according to the requirements of the Guidance provisions). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Industries and local governments, as POTWs, discharging toxic pollutants to waters in the Great Lakes System as defined in 40 CFR 132.2; the governments of the eight Great Lakes States (Illinois, Indiana, Michigan, Minnesota, New York, Ohio, Pennsylvania, Wisconsin); and the Federal government.

Estimated Number of Respondents: 588 major industrial and POTW dischargers, and 3,207 minor dischargers.

Frequency of Response: varies depending on dischargers effluent characteristics.

Estimated Total Annual Hour Burden: 43,395 hours.

Estimated Total Annualized Operating and Maintenance Cost Burden: $2,776,407 Send comments on the Agency's need for this information, the accuracy of the provided burden estimates, and any suggested methods for minimizing respondent burden, including through the use of automated collection techniques to the addresses listed above. Please refer to EPA ICR No.1639.04 and OMB Control No. 2040-0180 in any correspondence.

Dated: August 29, 2001.
Oscar Morales,
Director, Collection Strategies Division.

[FR Doc. 01-22751 Filed 9-10-01; 8:45 am]

BILLING CODE 6560-50-U